GENERAL SERVICES ADMINISTRATION

[GSA Bulletin FTR 08-06]

Federal Travel Regulation (FTR); Relocation Allowances—Standard Mileage Rate for Moving Purposes

AGENCY: Office of Governmentwide Policy, General Services Administration (GSA).

ACTION: Notice of a bulletin.

SUMMARY: On December 11, 2007, the General Services Administration (GSA) published FTR Amendment 2007-06 in the Federal Register (72 FR 70234) specifying that the Internal Revenue Service (IRS) Standard Mileage Rate for moving purposes would be the rate at which agencies will reimburse an employee for using a privately-owned vehicle for relocation on a worldwide basis. The amendment indicated that the change to the IRS Standard Mileage Rate for moving purposes applied to relocations on and after September 25, 2007, and that GSA would publish a bulletin announcing any changes to that rate made by the IRS thereafter. On June 23, 2008, the IRS announced that as of July 1, 2008, the relocation mileage rate would increase to $0.27 per mile for the 6 month period ending on December 31, 2008. FTR Bulletin 08-06, is attached. FTR Bulletin 08-06 and all other FTR Bulletins may be found at www.gsa.gov/federaltravelregulation.

DATES: This notice is effective July 1, 2008 and applies to relocations performed on or after July 1, 2008 until December 31, 2008.

FOR FURTHER INFORMATION CONTACT: Mr. Ed Davis, Office of Governmentwide Policy (M), Office of Travel, Transportation, and Asset Management (MT), General Services Administration at (202) 208-7638 or via e-mail at ed.davis@gsa.gov. Please cite FTR Bulletin 08-06.

Dated: July 1, 2008.
Kevin Messner,
Acting Associate Administrator, Office of Governmentwide Policy.

GENERAL SERVICES ADMINISTRATION

[GSA Bulletin FTR 08-06]

TO: Heads of Federal Agencies

SUBJECT: Relocation Allowances—Standard Mileage Rate for Moving Purposes

1. What is the purpose of this bulletin? This bulletin informs agencies that on June 23, 2008, the IRS announced an eight cent increase in the Standard Mileage Rate for moving purposes from 19 cents to 27 cents per mile. This new Standard Mileage Rate for moving purposes is effective July 1, 2008, through December 31, 2008, and applies to relocations undertaken by Federal employees during this time period.

2. What is the background of this bulletin? On December 11, 2007, GSA published FTR Amendment 2007-06 in the Federal Register (72 FR 70234) specifying that the IRS Standard Mileage Rate for moving purposes would be the rate at which agencies will reimburse an employee for using a privately owned vehicle (POV) for relocation worldwide. The amendment indicated that the change to the IRS Standard Mileage Rate for moving purposes applied to relocations on and after September 25, 2007, and that GSA would publish a bulletin announcing any changes to that rate made by the IRS thereafter.

3. Who should I call for further information? For further information, contact Mr. Ed Davis, Office of Governmentwide Policy (M), Office of Travel, Transportation, and Asset Management (MT), General Services Administration at (202) 208-7638 or via e-mail at ed.davis@gsa.gov.

By delegation of the Administrator of General Services,

Kevin Messner,

Acting Associate Administrator,

Office of Governmentwide Policy.

[FR Doc. E8-17091 Filed 7-24-08; 8:45 am]

BILLING CODE 6820-14-S